DEPARTMENT OF HEALTH AND HUMAN SERVICES

Substance Abuse and Mental Health Services Administration

Fiscal Year (FY) 2024 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting an administrative supplement in scope of the parent award for one eligible grant recipient funded under the FY 2023 Provider's Clinical Support System—Medications for Opioid Use Disorder (PCSS-MOUD), Notice of Funding Opportunity (NOFO) TI-23-014. The recipient may receive up to $1,000,000. This supplement provides support to the recipient with a project end date of September 30, 2025. The supplemental funding will be used to support increased fees from the training platform service as a result of an increase in the number of practitioners accessing training from the program.

FOR FURTHER INFORMATION CONTACT: Patti Juliana, Substance Abuse and Mental Health Services Administration, 5600 Fishers Lane, Rockville, MD 20857, telephone 240-276-1195; email: patti.juliana@samhsa.hhs.gov.

SUPPLEMENTARY INFORMATION:

Funding Opportunity Title: FY2024 Providers' Clinical Support System—Medications for Opioid Use Disorder (PCSS-MOUD) TI-23-014.

Assistance Listing Number: 93.243.

Authority: Section 509 of the of the Public Health Service Act.

Justification: The one SAMHSA-funded grant recipient of this NOFO has experienced increased fees from its training platform service as a result of an increase in the number of practitioners accessing training from the program.

This is not a formal request for application. Assistance will only be provided to the one PCSS-MOUD grant recipient funded in FY 2023 under the Providers' Clinical Support System—Medications for Opioid Use Disorder (PCSS-MOUD) [TI-23-014] based on the receipt of a satisfactory application and associated budget that is approved by a review group.

Dated: August 20, 2024.
Ann Ferrero,
Public Health Analyst.

[FR Doc. 2024-19021 Filed 8-23-24; 8:45 am]

BILLING CODE 4162-20-P